DEPARTMENT OF COMMERCE

National Oceanic and Atmospheric Administration

50 CFR Part 648

[Docket No. 250912-0153]

RIN 0648-BN43

Fisheries of the Northeastern United States; 2025-2026 Specifications for the Mackerel, Squid, and Butterfish Fishery Management Plan

AGENCY: National Marine Fisheries Service (NMFS), National Oceanic and Atmospheric Administration (NOAA), Commerce.

ACTION: Final rule.

SUMMARY: NMFS approves and implements 2025-2026 specifications for the Mackerel, Squid, and Butterfish Fishery Management Plan (FMP), as recommended by the Mid-Atlantic Fishery Management Council (Council). This action sets 2025 and projected 2026 butterfish fishery specifications and reaffirms 2025 chub mackerel, Illex squid, longfin squid, and Atlantic mackerel fishery specifications. These final specifications are intended to establish allowable harvest levels that will prevent overfishing, consistent with the most recent scientific information. This action also adjusts the minimum square mesh size for directed butterfish trawl trips and corrects existing regulations.

DATES: Effective October 23, 2025.

ADDRESSES: A Supplemental Information Report (SIR) was prepared for these specifications. Copies of the SIR and other relevant environmental documentation are available on request from Dr. Christopher M. Moore, Executive Director, Mid-Atlantic Fishery Management Council, Suite 201, 800 North State Street, Dover, DE 19901. The SIR is also accessible via the internet at https://www.mafmc.org/supporting-documents.

Copies of the small entity compliance guide are available from Michael Pentony, Regional Administrator, NMFS, Greater Atlantic Regional Fisheries Office, 55 Great Republic Drive, Gloucester, MA 01930-2298, or available on the internet at https://www.greateratlantic.fisheries.noaa.gov.

FOR FURTHER INFORMATION CONTACT: Maria Fenton, Fishery Policy Analyst, (978) 281-9196.

SUPPLEMENTARY INFORMATION:

Background

NMFS and the Council manage fisheries for Atlantic mackerel, chub mackerel, Illex squid, longfin squid, and butterfish pursuant to the Mackerel, Squid, and Butterfish FMP. In 2023, the most recent year for which complete revenue data are available, these five species supported fisheries producing $46 million in revenues.

Regulations implementing the Mackerel, Squid, and Butterfish FMP appear at 50 CFR part 648, subpart B. Section 302(g)(1)(B) of the Magnuson-Stevens Fishery Conservation and Management Act (Magnuson-Stevens Act; 16 U.S.C. 1852(g)(1)(B)) states that the Scientific and Statistical Committee (SSC) for each regional fishery management council shall provide its council with ongoing scientific advice for fishery management decisions, including recommendations for acceptable biological catch (ABC), preventing overfishing, ensuring maximum sustainable yield (MSY), and achieving rebuilding targets. The ABC is a level of catch that accounts for the scientific uncertainty in the estimate of the stock's defined overfishing limit (OFL).

Section 303(c) of the Magnuson-Stevens Act (16 U.S.C. 1853(c)) allows a Council to submit proposed regulations that it deems necessary or appropriate for making modifications to regulations implementing an FMP or FMP amendment to the Secretary of Commerce. Section 304(b) of the Magnuson-Stevens Act (16 U.S.C. 1854(b)) requires the Secretary of Commerce to evaluate the Council's proposed regulations to determine whether they are consistent with the FMP, FMP amendment, the Magnuson-Stevens Act, and other applicable law. If that determination is affirmative, the Secretary must publish the proposed regulations in the Federal Register for public comment, and promulgate a final rule after the end of the comment period.

The Council finalized its recommendations for 2025 and projected 2026 butterfish fishery specifications, and recommended reaffirming previously-projected 2025 Atlantic mackerel fishery specifications, during its October 2024 meeting, based on recommendations from its SSC. The Council also recommended reaffirming previously-projected 2025 specifications for the chub mackerel, Illex squid, and longfin squid fisheries during its June 2024 meeting.

Through this final rule, NMFS approves and implements the Council's recommended butterfish specifications pursuant to sections 303(c) and 304(b) of the Magnuson-Stevens Act. NMFS also reaffirms previously-projected specifications and makes corrections to existing regulations pursuant to section 305(d) of the Magnuson-Stevens Act, which authorizes the Secretary to implement management measures necessary to carry out an approved fishery management plan.

Final 2025 and Projected 2026 Butterfish Specifications

Relative to 2024, the 2025 butterfish fishery specifications will:

• Increase the OFL by 9.3 percent;

• Increase the ABC/annual catch limit (ACL) by 8.6 percent;

• Lower the annual catch target (ACT) buffer to zero percent, resulting in a 14.3-percent increase in the ACT;

• Increase assumed other discards by 52.8 percent and the total discard set-aside by 12.8 percent;

• Maintain the butterfish discard cap in the longfin squid fishery;

• Increase the domestic annual harvest (DAH) by 15.0 percent; and

• Maintain the trimester allocations for the butterfish mortality cap.

In 2026, the projected butterfish OFL, ABC, and ACT will decrease by 19.1 percent, and the projected DAH will decrease by 28.9 percent, relative to 2025. The remainder of the projected 2026 specifications will remain status quo relative to 2025 (table 1 and table 2).

Table 1—Final 2025 and Projected 2026 Butterfish Specifications
[Metric tons, mt]
Specification | 2025 | Projected 2026
OFL | 17,587 | 14,224
ABC/ACL | 17,115 | 13,842
ACT buffer | 0 | 0
ACT buffer (%) | 0% | 0%
ACT | 17,115 | 13,842
Research set-aside (RSA) * | 0 | 0
Total allowable level of foreign fishing (TALFF) | 0 | 0
Butterfish cap in longfin squid fishery | 3,884 | 3,884
Assumed other discards | 1,907 | 1,907
Total discard set-aside (all sources) | 5,791 | 5,791
DAH/domestic annual processing (DAP) | 11,324 | 8,051
Closure threshold (amount caught) | 10,324 | 7,051
* The Council's RSA program has been suspended since 2014.

Table 2—Final 2025 and Projected 2026 Trimester Allocation of the Butterfish Mortality Cap for the Longfin Squid Fishery
Trimester | Percent | Metric tons
I (January-April) | 43 | 1,670
II (May-August) | 17 | 660
III (September-December) | 40 | 1,554
Total | 100 | 3,884

Reaffirmed 2025 Chub Mackerel, Longfin Squid, Illex Squid, and Atlantic Mackerel Specifications

For multi-year specifications, the first year of specifications are implemented through the initial final rule, which includes projections of the additional years' specifications. Those projected specifications, after review to ensure no changes are necessary, are reaffirmed in subsequent rulemakings. Projected 2025 specifications for the remaining fisheries managed under the Mackerel, Squid, and Butterfish FMP were included in several previous management actions:

• Projected 2025 chub mackerel fishery specifications were included in the final rule implementing 2023-2025 specifications for the Mackerel, Squid, and Butterfish FMP (88 FR 48389, July 27, 2023);

• Projected 2025 Illex and longfin squid fishery specifications were included in the final rule implementing 2024-2026 specifications for the Mackerel, Squid, and Butterfish FMP (89 FR 59678, July 23, 2024); and

• Projected 2025 Atlantic mackerel fishery specifications were included in the final rule implementing 2024 and projected 2025 Atlantic mackerel specifications (89 FR 25820, April 12, 2024).

The proposed rule (90 FR 20265, May 13, 2025) noted that the 2024 Atlantic mackerel DAH was likely exceeded, with preliminary data through December 31, 2024, indicating that 116.6 percent of the DAH had been landed. At the time of publication of the proposed rule, NMFS was still waiting for complete state and recreational data in order to evaluate whether the Atlantic mackerel ACL had been exceeded, and if so, which AMs would need to be implemented in order to address the overage. The proposed rule explained that if these data became available before publication of the final rule, NMFS would announce the implementation of any necessary AMs through the final rule. NMFS subsequently received updated state and recreational data that indicate that the 2024 Atlantic mackerel ACL was not exceeded. Therefore, no AMs for Atlantic mackerel are being implemented through this final rule.

Relative to 2024, the reaffirmed 2025 specifications for these four species will remain status quo (tables 3-7).

Table 3—Reaffirmed 2025 Specifications for Chub Mackerel
[Mt]
Specification | Reaffirmed 2025
ABC | 2,300
ACL | 2,262
ACT | 2,171
Total allowable landings (TAL) | 2,041

Table 4—Reaffirmed 2025 Specifications for Illex Squid
[Mt]
Specification | Reaffirmed 2025
OFL | Unknown
ABC | 40,000
Commercial discard set-aside | 1,369
Commercial discard set-aside (%) | 3.42%
Initial optimum yield (IOY) | 38,631
RSA * | 0
DAH/DAP | 38,631
* The Council's RSA program has been suspended since 2014.

Table 5—Reaffirmed 2025 Specifications for Longfin Squid
[Mt]
Specification | Reaffirmed 2025
OFL | Unknown
ABC | 23,400
Commercial discard set-aside | 506.3
Commercial discard set-aside (%) | 2.16%
IOY | 22,893.70
RSA * | 0
DAH/DAP | 22,893.70
* The Council's RSA program has been suspended since 2014.

Table 6—Reaffirmed 2025 Longfin Squid Quota Trimester Allocations
Trimester | Percent of quota | Metric tons
I (January-April) | 43 | 9,844.30
II (May-August) | 17 | 3,891.90
III (September-December) | 40 | 9,157.50
Total | 100 | 22,893.70

Table 7—Corrected Reaffirmed 2025 Specifications for Atlantic Mackerel
[Mt]
Specification | Reaffirmed 2025
ABC | 3,200
Canadian catch deduction | 74
ACL/U.S. ABC | 3,126
Recreational catch deduction | 2,143
Commercial ACT | 983
RSA * | 0
DAH/DAP | 868
JVP | 0
Commercial discards | 115
TALFF | 0
River herring/shad catch cap | 129
* The Council's RSA program has been suspended since 2014.

Adjustment to Minimum Square Mesh Size on Directed Butterfish Trips

This final rule decreases the minimum size for square mesh used on directed butterfish trawl trips (trips possessing more than 5,000 lb (2,268 kilograms (kg) of butterfish) from 3 inches (7.62 centimeters (cm)) to greater than 2⅝ inches (6.67 cm). The existing 3-inch (7.62-cm) minimum size for diamond mesh used on directed butterfish trawl will remain unchanged. This change in minimum square mesh size will provide the industry with additional flexibility to use readily available materials while still minimizing catch of immature butterfish.

Revisions to Existing Regulations

On April 12, 2024, the final rule implementing 2024 and projected 2025 specifications for the Atlantic mackerel fishery took effect (89 FR 25820). That rule revised the Atlantic mackerel accountability measure (AM) regulations at § 648.24 to remove the previous two-phase commercial fishery closure process and replace it with a single-step closure process to better accommodate the reduced specifications that were implemented through that rule. The intent was to remove the text at § 648.24(b)(1)(iii) from the CFR through this rule because it was being replaced by updated text at § 648.24(b)(1)(ii); however, it was accidentally left in the CFR. Pursuant to the Secretary's authority in Section 305(d) of the Magnuson-Stevens Act, this final rule removes the outdated regulatory text at § 648.24(b)(1)(iii).

Comments and Responses

NMFS published a proposed rule on May 13, 2025 (90 FR 20265), and the public comment period ended on June 12, 2025. We received comments from four members of the public during the comment period: One commenter provided comment unrelated to the action; one commenter supported the action; and one commenter was generally opposed to commercial fishing, but did not mention anything specific to the measures contained in this action. A fourth commenter raised questions about several components of the action. Responses to the three comment components from this commenter are provided below.

Comment 1: A member of the public noted that there was a typographical error in table 2 in the proposed rule. Specifically, the butterfish discard cap for the longfin squid fishery was listed as 3,844 mt instead of 3,884 mt.

Response 1: Table 2 in this final rule corrects that error.

Comment 2: A member of the public expressed concern over the proposed changes to the approach used to calculate assumed other discards for butterfish. Specifically, the commenter questioned whether the new time series (2018-2023) used to calculate assumed other discards is sensitive to outlier data, and whether this approach is adequately precautionary given potential variations in fishery conditions. The commenter suggested that NMFS perform a sensitivity analysis or expand upon its rationale for the change in the approach.

Response 2: During the development of this specifications action, the Mackerel, Squid, and Butterfish Monitoring Committee reviewed butterfish discard data from 2013-2023. Starting in 2018, discards were calculated using NMFS' improved Catch Accounting and Monitoring System (CAMS). These data indicated that other discards during 2018-2023 were consistently higher than they were during 2013-2017. In order to use the best information available, and to ensure that discard calculations were reflective of recent conditions in the fishery, the Council recommended updating the time series used to calculated assumed other discards to 2018-2023. The intent of including one standard deviation in the assumed other discards calculation is to help account for potential annual variations in resource or fishing conditions, and to help prevent the amount set-aside for discards from being too low. The Council will review the projected 2026 butterfish specifications, including assumed other discards, before the start of the next fishing year. If it appears that the amount set aside for discards is no longer appropriate, the Council could recommend changing the buffer.

Comment 3: A member of the public expressed concern over the proposed reduction in the butterfish ACT buffer, stating that setting the buffer at zero percent would eliminate a margin of safety that may become necessary should fishery conditions change unexpectedly. The commenter questioned whether the assumption that recent low catch rates of butterfish will continue was appropriate, and recommended that NMFS maintain the 5-percent ACT buffer that has been in place since 2021.

Response 3: NMFS disagrees that maintaining the 5-percent ACT buffer is necessary. The butterfish fishery has consistently caught a relatively small percentage of its commercial quota in recent years. During 2019-2023, only 6.2-24.5 percent of the butterfish DAH was caught annually. Input from experts suggests that market conditions will likely lead to continued low utilization of the stock; therefore, it is reasonable to assume that catch in 2025 will fall within the range of what has been caught in recent years. Additionally, including one standard deviation in the assumed other discards calculation will help account for potential variability in fishery conditions, reducing the likelihood of the catch limits being exceeded. The Council will review the projected 2026 butterfish specifications, including the ACT buffer, before the start of the next fishing year. If it appears that the zero-percent buffer is no longer appropriate, the Council may recommend changing the buffer.

Additionally, if conditions in the butterfish fishery change and catch rates unexpectedly increase, the regulations implementing the Mackerel, Squid, and Butterfish FMP include inseason AMs that are designed to constrain catch and avoid overages of the ACL. Specifically, when NMFS projects that a portion (10,324 mt) of the butterfish DAH has been caught (with 1,000 mt remaining), NMFS will implement a 5,000-lb (2,268-kg) possession limit for limited access butterfish vessels fishing with a minimum mesh size of 3 inches (7.62 cm). When NMFS projects that 100 percent of the butterfish DAH has been caught, NMFS will implement a 600-lb (272-kg) possession limit for all vessels issued a limited access butterfish permit, a limited access longfin squid permit, or an open access squid/butterfish incidental catch permit. Further, if data indicate that the butterfish ACL was exceeded in a given fishing year, catch in excess of the ACL would be deducted from the ACL in the following year in order to account for that overage.

Classification

Pursuant to section 304(b)(3) of the Magnuson-Stevens Act, the NMFS Assistant Administrator has determined that this final rule is consistent with the Mackerel, Squid, and Butterfish FMP, other provisions of the Magnuson-Stevens Act, and other applicable law. Pursuant to section 305(d) of the Magnuson-Stevens Act, the NMFS Assistant Administrator has determined that this final rule is necessary to discharge NMFS' responsibilities and to carry out the Magnuson-Stevens Act.

This final rule has been determined to be not significant for purposes of Executive Order (E.O.) 12866.

This final rule is not an E.O. 14192 regulatory action because this action is not significant under E.O. 12866.

NMFS has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2)(B) of E.O. 13175 is not required and has not been prepared.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a final regulatory flexibility analysis was not required and none was prepared.

This final rule does not contain a change to a collection of information requirement for purposes of the Paperwork Reduction Act (PRA) of 1995. The existing collection of information requirements would continue to apply under the following Office of Management and Budget (OMB) Control Number: 0648-0229, Greater Atlantic Region Dealer Purchase Reports.

List of Subjects in 50 CFR Part 648

Fisheries, Fishing, Reporting and recordkeeping requirements.

Dated: September 15, 2025.
Samuel D. Rauch III,
Deputy Assistant Administrator for Regulatory Programs, National Marine Fisheries Service.

For the reasons set out in the preamble, NMFS amends 50 CFR part 648 as follows:

PART 648—FISHERIES OF THE NORTHEASTERN UNITED STATES

1. The authority citation for part 648 continues to read as follows:

Authority: 16 U.S.C. 1801 et seq.

2. Amend § 648.23 by revising paragraph (a)(1) to read as follows:

§ 648.23 Mackerel, squid, and butterfish gear restrictions.

(a) * * *

(1) Butterfish fishery. Owners or operators of otter trawl vessels possessing more than 5,000 lb (2.27 mt) of butterfish harvested in or from the EEZ may only fish with nets having codend mesh of greater than or equal to 3-inch (7.62-cm) diamond mesh, or greater than 2⅝-inch (6.67-cm) square mesh, as measured by methods specified in § 648.80(f), applied throughout the codend for at least 100 continuous meshes forward of the terminus of the net, or for codends with less than 100 meshes, the minimum mesh size codend shall be a minimum of one-third of the net, measured from the terminus of the codend to the headrope.

* * * * *

3. Amend § 648.24 by removing paragraph (b)(1)(iii).

[FR Doc. 2025-18451 Filed 9-22-25; 8:45 am]

BILLING CODE 3510-22-P